DEPARTMENT OF THE INTERIOR

National Park Service

[NPS-SERO-BLRI-12544; PPSESEROC3; PPMPSAS1Y.YP0000]

Record of Decision for the General Management Plan, Blue Ridge Parkway, Virginia and North Carolina

AGENCY: National Park Service, Interior.

ACTION: Notice of availability.

SUMMARY: Pursuant to the National Environmental Policy Act of 1969, 42 U.S.C. 4332(2)(C), the National Park Service (NPS) announces the availability of the Record of Decision (ROD) for the General Management Plan (GMP) for Blue Ridge Parkway (parkway). On April 13, 2013, the Regional Director, Southeast Region, approved the ROD for the project.

FOR FURTHER INFORMATION CONTACT: Superintendent Phil Francis, Blue Ridge Parkway, 199 Hemphill Knob Road, Asheville, NC 28803; telephone (828) 271-4779.

SUPPLEMENTARY INFORMATION: The NPS evaluated three alternatives for managing use and development of the parkway in the GMP/FEIS, Alternative A—no action Alternative, and two action Alternatives. The preferred alternative (Alternative B) from the FEIS/GMP is the alternative selected for implementation. Alternative B emphasizes the original parkway design and traditional driving experience, while enhancing outdoor recreation opportunities and regional natural resource connectivity, and providing modest improvements to visitor services. To support that experience, many of the parkway's recreation areas will provide enhanced opportunities for dispersed outdoor recreation activities. This action will proactively blend newer law and policy requirements and operational constraints with the traditional parkway concept developed from 1935 to 1955. As a result, the selected action will provide a better balance between traditional parkway experiences and modern-day management realities. Under Alternative C, parkway management would be more integrated with the region's resources and economy, while enhancing parkway visitor services.

The selected action will provide a comprehensive parkway-wide approach to resource and visitor use management. Specific management zones detailing acceptable resource conditions, visitor experience, use levels, appropriate activities and development will be applied to parkway lands (parkway segments and recreation areas) consistent with this concept. The selected action will also seek to enhance resource protection, regional natural resource connectivity, and build stronger connections with adjacent communities. The GMP will guide the management of the parkway over the next 20+ years.

The responsible official for this FEIS/GMP is the Regional Director, NPS Southeast Region, 100 Alabama Street SW., 1924 Building, Atlanta, Georgia 30303.

Dated: May 14, 2013.
Gordon Wissinger,
Acting Regional Director, Southeast Region.

[FR Doc. 2013-12759 Filed 5-29-13; 8:45 am]

BILLING CODE 4310-JD-P